DEPARTMENT OF THE INTERIOR

National Park Service

[N6647; NPS-WASO-NAGPRA-NPS0041381; PPWOCRADN0-PCU00RP14.R50000]

Notice of Inventory Completion: University of Alabama Museums, Tuscaloosa, AL

AGENCY: National Park Service, Interior.

ACTION: Notice.

SUMMARY: In accordance with the Native American Graves Protection and Repatriation Act (NAGPRA), the University of Alabama Museums has completed an inventory of human remains and has determined that there is a cultural affiliation between the human remains and Indian Tribes or Native Hawaiian organizations in this notice.

DATES: Repatriation of the human remains in this notice may occur on or after January 15, 2026.

ADDRESSES: Send written requests for repatriation of the human remains in this notice to Dr. William Bomar, Executive Director, University of Alabama Museums, Box 870340, Tuscaloosa, AL 35487, email bbomar@ua.edu.

SUPPLEMENTARY INFORMATION: This notice is published as part of the National Park Service's administrative responsibilities under NAGPRA. The determinations in this notice are the sole responsibility of the University of Alabama Museums, and additional information on the determinations in this notice, including the results of consultation, can be found in its inventory or related records. The National Park Service is not responsible for the determinations in this notice.

Abstract of Information Available

Human remains representing, at least, four individuals have been identified. No associated funerary objects are present. Between 2014 and 2016, human remains representing, at minimum, four individuals were found eroding out of the shoreline from Site 1Tu500, the Moundville site, during efforts to stabilize the shoreline abutting the site. In the late 1980s a small portion of the shoreline near the Jones Conference Center was stabilized as part of a US Army Corps of Engineers (USACE) project. That effort served its function, protecting the site by maintaining the integrity of the shoreline.

However, the portion of the riverbank upstream, near the mouth of Carthage Branch experienced erosion at an accelerated rate; much faster than in the past 85 years (based on comparisons of georeferenced aerial imagery dating back to 1938). The high terrace on which the site is located is comprised of beds of gravelly sand and clay deposits. An apparent shift in the thalweg has caused the undercutting of the bank and large slumps occurred as the differential weathering of clay and sands created overhangs. A clay shelf lies at the base of the submerged slope and a shift in the main current resulted in rapid deterioration since sometime after 2009.

On November 5, 2014, one individual was found eroding from the shoreline. Two sets of human remains were also found in January 2015 and another set of human remains were found in April 2016. The exposed remains were only portions of the burials which remain in the riverbank.

Moundville, a large mound complex on the banks of the Black Warrior River whose occupation spans the Late Woodland and the West Jefferson phase through the Moundville I, II, and III phases, and terminates in the Late Mississippian/Protohistoric Moundville IV phase, has been the subject of two centuries of archaeological inquiry. No known individuals were identified. No associated funerary objects are present.

Cultural Affiliation

Based on the information available and the results of consultation, cultural affiliation is clearly identified by the information available about the human remains described in this notice.

Determinations

The University of Alabama Museums has determined that:

• The human remains described in this notice represent the physical remains of four individuals of Native American ancestry.

• There is a connection between the human remains described in this notice and the Alabama-Quassarte Tribal Town; Coushatta Tribe of Louisiana; Mississippi Band of Choctaw Indians; Seminole Tribe of Florida; The Chickasaw Nation; The Choctaw Nation of Oklahoma; The Muscogee (Creek) Nation; The Seminole Nation of Oklahoma with letters of support from the Alabama-Coushatta Tribe of Texas and the Jena Band of Choctaw Indians.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 15, 2026. If competing requests for repatriation are received, the University of Alabama Museums must determine the most appropriate requestor prior to repatriation. Requests for joint repatriation of the human remains are considered a single request and not competing requests. The University of Alabama Museums is responsible for sending a copy of this notice to the Indian Tribes and Native Hawaiian organizations identified in this notice.

Authority: Native American Graves Protection and Repatriation Act, 25 U.S.C. 3003, and the implementing regulations, 43 CFR 10.10.

Dated: November 20, 2025.
Melanie O'Brien,
Manager, National NAGPRA Program.

[FR Doc. 2025-22923 Filed 12-15-25; 8:45 am]

BILLING CODE 4312-52-P